DEPARTMENT OF ENERGY

Federal Energy Regulatory Commission

[Docket No. CP16-116-000]

Notice of Schedule for Environmental Review of the Texas LNG Brownsville LLC Texas LNG Project

On March 31, 2016, Texas LNG Brownsville LLC (Texas LNG) filed an application in Docket No. CP16-116-000 requesting authorization pursuant to Section 3(a) of the Natural Gas Act to site, construct, modify, and operate liquefied natural gas (LNG) export facilities located on the Brownsville Ship Channel in Cameron County, Texas. The proposed project is known as the Texas LNG Project (Project) and would include a new LNG export terminal capable of producing up to 4 million tonnes per annum of LNG for export. The terminal would receive natural gas to the export facilities from a third-party intrastate pipeline. On September 24, 2015, in Order No. 3716, the U.S. Department of Energy, Office of Fossil Energy, granted to Texas LNG a long-term, multi-contract authorization to export LNG to Free Trade Agreement nations.

On April 14, 2016, the Federal Energy Regulatory Commission (FERC or Commission) issued its Notice of Application for the Project. Among other things, that notice alerted other agencies issuing federal authorizations of the requirement to complete all necessary reviews and to reach a final decision on the request for a federal authorization within 90 days of the date of issuance of the Commission staff's final Environmental Impact Statement (EIS) for the Texas LNG Project. This instant notice identifies the FERC staff's planned schedule for completion of the final EIS for the Project, which is based on an issuance of the draft EIS in October 2018. The forecasted schedule for both the draft and final EIS is based upon Texas LNG providing complete and timely responses to any future data requests. In addition, the schedule assumes that the cooperating agencies will provide input on their areas of responsibility on a timely basis.

Schedule for Environmental Review

Issuance of Notice of Availability of the final EIS—March 15, 2019

90-Day Federal Authorization Decision Deadline—June 13, 2019

If a schedule change becomes necessary for the final EIS, an additional notice will be provided so that the relevant agencies are kept informed of the Project's progress.

Project Description

Texas LNG's proposed facilities include two liquefaction trains, each capable of producing 2 million tonnes per annum, one new LNG storage tank, and a single marine berth capable of accommodating LNG carriers with capacities up to 180,000 cubic meters. The Project would be constructed on about 285 acres of a 625-acre parcel of land, on the north side of the Brownsville Ship Channel near mile marker 4. An additional 26.5 acres would be located outside of the 625-acre parcel to provide deepwater access to the Brownsville Ship Channel.

Background

On April 14, 2015, the Commission staff granted Texas LNG's request to use the FERC's Pre-filing environmental review process and assigned the Texas LNG Project Docket No. PF15-14-000. On July 23, 2015, the Commission issued a Notice of Intent to Prepare an Environmental Impact Statement for the Planned Texas LNG Project, Request for Comments on Environmental Issues, and Notice of Public Scoping Meeting (NOI).

The NOI was issued during the pre-filing review of the project in Docket No. PF15-14-000 and was sent to federal, state, and local government agencies; elected officials; affected landowners; environmental and public interest groups; Native American tribes and regional organizations; commenters and other interested parties; and local libraries and newspapers. Major issues raised during scoping include threatened and endangered species, LNG safety, land use, water quality, air quality, and cumulative impacts.

The U.S. Department of Energy, U.S. Coast Guard, U.S. Department of Transportation, U.S. Army Corps of Engineers, U.S. Environmental Protection Agency, U.S. Fish and Wildlife Service, National Park Service, National Marine Fisheries Service, and Federal Aviation Administration are cooperating agencies in the preparation of the EIS.

Additional Information

In order to receive notification of the issuance of the EIS and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP16-116), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: August 31, 2018.
Nathaniel J. Davis, Sr.,
Deputy Secretary.

[FR Doc. 2018-19390 Filed 9-6-18; 8:45 am]

BILLING CODE 6717-01-P